DEPARTMENT OF JUSTICE

Antitrust Division

Notice Pursuant to the National Cooperative Research and Production Act of 1993—National Armaments Consortium

Notice is hereby given that, on January 10, 2024, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Augustine Consulting, Inc., Hamilton, NJ; Aegis Power Systems, Inc., Murphy, NC; Agile Decision Sciences, LLC, Huntsville, AL; American Material Handling, Inc., Watkinsville, GA; Appleton Marine, Inc., Appleton, WI; Bridgehill Corporation, Paramus, NJ; Canopy Aerospace, Inc., Littleton, CO; Cimarron Software Services, Inc., Houston, TX; CODE Plus, Inc., Fairfax, VA; Crowdbotics Corporation, Berkeley, CA; Danbury Mission Technologies, LLC, Danbury, CT; DZYNE Technologies, LLC, Fairfax, VA; Espey Manufacturing & Electronics Corp., Saratoga Springs, NY; Final Frontier Security, LLC, Hollywood, MD; FreEnt Techologies, Inc., Huntsville, AL; General Dynamics Information Technology, Falls Church, VA; HAMR Industries, LLC, Clinton, PA; Martinez and Turek, Inc., Rialto, CA; MILCOTS, Mahwah, NJ; Munitions Industrial Base Task Force, Inc., Arlington, VA; National Security Capital, LLC, Owings Mills, MD; QTEC, Inc., Huntsville, AL; Ross Group Construction Corporation, LLC, Tulsa, OK; Sentient Digital, Inc., New Orleans, LA; Shearwater Technology, Inc., Washington, IL; Signature Science, LLC, Austin, TX; Sonardyne, Inc., Houston, TX; TGV Rockets, Inc., Washington, DC; VIAVI Solutions, LLC, Wichita, KS; and, WWM Solutions, LLC, Washington, DC have been added as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on October 10, 2023. A notice was published in the Federal Register pursuant to section 6(b) of the Act on December 15, 2023 (88 FR 86931).

Suzanne Morris,
Deputy Director Civil Enforcement Operations, Antitrust Division.

[FR Doc. 2024-05318 Filed 3-12-24; 8:45 am]

BILLING CODE 4410-11-P